DEPARTMENT OF ENERGY

Federal Energy Regulatory Commission

Notice of Application for Temporary Amendment of License and Soliciting Comments, Motions to Intervene, and Protests

November 16, 2005.

Take notice that the following hydroelectric application has been filed with the Commission and is available for public inspection:

a. Type of Application: Request for temporary deviation from that required to expand the operating limits for the upper reservoir from December 1 through March 31, 2006, for the purpose of additional operating flexibility under ISO-NE emergency conditions.

b. Project No.: 2485-028.

c. Date Filed: November 16, 2005.

d. Applicant: Northeast Generation Company (NGC).

e. Name of Project: Northfield Mountain Pumped Storage Hydroelectric Project.

f. Location: The project is located on the east side of the Connecticut River, in the towns of Northfield and Erving, in Franklin County, Massachusetts. The project does not utilize federal or tribal lands.

g. Filed pursuant to: 18 CFR 4.201.

h. Applicant Contact: Mr. William J. Nadeau, Vice President and Chief Operating Officer, Northeast Generation Services Company, 273 Dividend Road, Rocky Hill, Connecticut 06067, (860) 665-5315 with copies of all correspondence and communications to:

Mr. John Howard, Station Manager, Northfield Mountain Station, 99 Millers Falls Road, Northfield, Massachusetts 01360, (413) 659-4489; and

Ms. Catherine E. Shively, Senior Counsel, Public Service Company of New Hampshire, P.O. Box 330, Manchester, New Hampshire 03105, (603) 634-2326.

i. FERC Contact: Any questions on this notice should be addressed to Diana Shannon (202) 502-8887, or diana.shannon@ferc.gov.

j. Deadline for filing motions to intervene, protests, comments: November 23, 2005.

k. Description of Proposed Action: NGC seeks temporary authorization to modify the upper reservoir's upper and lower water service elevation limits from 1000.5 and 938 feet, to 1004.5 and 920 feet, respectively, and to allow maximum daily generation of 10,465 megawatt hours only under certain ISO-NE emergency operating conditions from December 1, 2005-March 31, 2006. At all other times, the reservoir would be operated between 1004.5 to 947.7 feet, with a maximum daily generation of 8,475 MWh, which is the existing allowable generation limit. The project uses some of the storage behind Turner Falls Dam (FERC No. 1889) as the lower reservoir for the pumped storage operations and proposes no changes in the operating limits of the Turners Falls Reservoir. NOC requests that the temporary authority become effective December 1, 2005.

l. Locations of Applications: A copy of the application is available for inspection and reproduction at the Commission in the Public Reference Room, located at 888 First Street NE., Room 2A, Washington DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (P-2485-028). All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-6478 Filed 11-23-05; 8:45 am]

BILLING CODE 6717-01-P